DEPARTMENT OF TRANSPORTATION

Federal Aviation Administration

Advisory Circular (AC) 20-27F, Certification and Operation of Amateur-Built Aircraft

AGENCY: Federal Aviation Administration (FAA), DOT.

ACTION: Notice of availability.

SUMMARY: This notice announces the availability of AC 20-27F, Certification and Operation of Amateur-Built Aircraft. AC 20-27F provides information and guidance concerning an acceptable means, but not the only means, of demonstrating compliance with the requirements of Title 14 Code of Federal Regulations, part 21, Certification Procedures for Products and Parts, regarding Certification and Operation of Amateur-Built Aircraft.

ADDRESSES: Copies of AC 20-27F can be obtained from the following: U.S. Department of Transportation, Subsequent Distribution Office, Ardmore East Business Center, 3341 Q 75th Ave, Landover, MD 20785. This AC can also be obtained at no charge from the Internet at www.airweb.faa.gov/Regulatory_and_Guidance_Library/rgWebcomponents.nsf/HomeFrame?OpenFrameSet.

Issued in Washington, DC, on September 26, 2003.
Frank P. Paskiewicz,
Manager, Production and Airworthiness Division, AIR-200.

[FR Doc. 03-27176 Filed 10-27-03; 8:45 am]

BILLING CODE 4910-13-M